DEPARTMENT OF TRANSPORTATION

Federal Aviation Administration

[Docket No. FAA-2019-0690]

Agency Information Collection Activities: Requests for Comments; Clearance of Renewed Approval of Information Collection: Flight Operations Quality Assurance (FOQA) Program.

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on September 4, 2019. The collection involves the voluntary submission of information gained through the Flight Operations Quality Assurance (FOQA) Program. FOQA is a voluntary safety program designed to improve aviation safety through the proactive use of flight-recorded data. The information collected will allow operators to use this data to identify and correct deficiencies in all areas of flight operations.

DATES: Written comments should be submitted by December 16, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW, Washington, DC 20503.

FOR FURTHER INFORMATION CONTACT: Sandra Ray by email at: Sandra.ray@faa.gov; phone: 412-329-3088.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0660.

Title: Flight Operations Quality Assurance (FOQA) Program.

Form Numbers: There are no forms associated with this collection.

Type of Review: Renewal of an Information Collection.

Background: The Federal Register Notice with a 60-day comment period soliciting comments on the following collection of information was published on September 4, 2019 (84 FR 46604). Comments were received from the 60 day comment period, and the estimated time burden has been adjusted to reflect those comments. The number of respondents was also updated to reflect the most current number. Flight Operations Quality Assurance (FOQA) is a voluntary safety program designed to improved aviation safety through the proactive use of flight-recorded data. Operators will use this data to identify and correct deficiencies in all areas of flight operations. Properly used, FOQA data can reduce or eliminate safety risks, as well as minimize deviations from regulations. Through access to de-identified aggregate FOQA data, the Federal Aviation Administration (FAA can identify and analyze national trends and target resources to reduce operational risks in the National Airspace System (NAS), air traffic control (ATC), flight operations and airport operations.

The FAA and the air transportation industry have sought additional means for addressing safety problems and identifying potential safety hazards. Based on the experiences of foreign air carriers, the results of several FAA-sponsored studies, and input received from government/industry safety forums, the FAA concluded that wide implementation of FOQA programs could have significant potential to reduce air carrier accident rates below current levels. The value of FOQA programs is the early identification of adverse safety trends, which, if uncorrected, could lead to accidents. A key element in FOQA is the application of corrective action and follow-up to ensure that unsafe conditions are effectively remediated.

Respondents: 64 Air Carriers (55 with existing programs and 9 carriers with new programs).

Frequency: Once for a certificate holders seeking approval of a program, monthly (or less depending on agreement with FAA office) for certificate holders with an approved program.

Estimated Average Burden per Response: 100 Hours for certificate holders seeking approval of a new program, 30.0 hour per year for certificate holders with an approved program.

Estimated Total Annual Burden: 100 hours per new respondent, 30 hours annually per existing respondents.

Issued in Washington, DC on November 8, 2019.
Sandra L. Ray
Aviation Safety Inspector, FAA, Policy Integration Branch, AFS-270.

[FR Doc. 2019-24713 Filed 11-13-19; 8:45 am]

BILLING CODE 4910-13-P